DEPARTMENT OF COMMERCE

International Trade Administration

[A-570-951]

Certain Woven Electric Blankets From the People's Republic of China: Final Results of Sunset Review and Revocation of Antidumping Duty Order

AGENCY: Enforcement and Compliance, International Trade Administration, Department of Commerce.

SUMMARY: On July 1, 2015, the Department of Commerce (“the Department”) initiated the first sunset review of the antidumping duty order on certain woven electric blankets from the People's Republic of China (“PRC”).¹ Because no domestic interested party filed a notice of intent to participate in response to the Initiation Notice by the applicable deadline, the Department is revoking the antidumping duty order on certain woven electric blankets from the PRC.

¹ See Initiation of Five-Year (“Sunset”) Review, 80 FR 37586 (July 1, 2015) (“Initiation Notice”).

DATES: Effective date: August 18, 2015.

FOR FURTHER INFORMATION CONTACT: Drew Jackson, AD/CVD Operations, Office IV, Enforcement and Compliance, International Trade Administration, U.S. Department of Commerce, 14th Street and Constitution Avenue NW., Washington, DC 20230; telephone: (202) 482-4406.

SUPPLEMENTARY INFORMATION:

Background

On August 18, 2010, the Department published the antidumping duty order on certain woven electric blankets from the PRC.² On July 1, 2015, the Department initiated the sunset review on the antidumping duty order on certain woven electric blankets from the PRC pursuant to section 751(c) of the Tariff Act of 1930, as amended (“the Act”).³ We received no notice of intent to participate in response to the Initiation Notice from domestic interested parties by the applicable deadline.⁴ As a result, the Department has concluded that no domestic party intends to participate in this sunset review.⁵ On July 21, 2015, we notified the International Trade Commission, in writing, that we intend to revoke the antidumping duty order on certain woven blankets from the PRC.⁶

² See Antidumping Duty Order: Certain Woven Electric Blankets from the People's Republic of China, 75 FR 50991 (August 18, 2010) (“Order”).

³ See Initiation Notice.

⁴ See 19 CFR 351.218(d)(1)(i).

⁵ See 19 CFR 351.218(d)(1)(iii)(A).

⁶ See 19 CFR 351.218(d)(1)(iii)(B)(2).

Scope of the Order

The scope of this order covers finished, semi-finished, and unassembled woven electric blankets, including woven electric blankets commonly referred to as throws, of all sizes and fabric types, whether made of man-made fiber, natural fiber or a blend of both. Semi-finished woven electric blankets and throws consist of shells of woven fabric containing wire. Unassembled woven electric blankets and throws consist of a shell of woven fabric and one or more of the following components when packaged together or in a kit: (1) Wire; (2) controller(s). The shell of woven fabric consists of two sheets of fabric joined together forming a “shell.” The shell of woven fabric is manufactured to accommodate either the electric blanket's wiring or a subassembly containing the electric blanket's wiring (e.g., wiring mounted on a substrate).

A shell of woven fabric that is not packaged together, or in a kit, with either wire, controller(s), or both, is not covered by this investigation even though the shell of woven fabric may be dedicated solely for use as a material in the production of woven electric blankets.

The finished, semi-finished and unassembled woven electric blankets and throws subject to this order are currently classifiable under subheading 6301.10.0000 of the Harmonized Tariff Schedule of the United States (“HTSUS”). Although the HTSUS subheading is provided for convenience and customs purposes, only the written description of the scope is dispositive.

Revocation

Pursuant to section 751(c)(3)(A) of the Act and 19 CFR 351.218(d)(1)(iii)(B)(3), if no domestic interested party files a notice of intent to participate, the Department shall issue a final determination revoking the order within 90 days of the initiation of the review. Because no domestic interested party filed a timely notice of intent to participate in this sunset review, the Department finds that no domestic interested party is participating in this sunset review. Therefore, we are revoking the antidumping duty order on certain woven blankets from the PRC. Pursuant to 19 CFR 351.222(i)(2)(i), the effective date of revocation is August 18, 2015, the fifth anniversary of the order.⁷

⁷ See Order.

Pursuant to section 751(c)(3)(A) and 751(d)(3) of the Act and 19 CFR 351.222(i)(2)(i), the Department intends to issue instructions to U.S. Customs and Border Protection (“CBP”) to terminate the suspension of liquidation of and discontinue the collection of cash deposits on entries of the merchandise subject to the order which were entered, or withdrawn from warehouse, for consumption on or after August 18, 2015. Entries of subject merchandise prior to August 18, 2015, will continue to be subject to the suspension of liquidation and requirements for deposits of estimated antidumping duties. The Department will conduct administrative reviews of the order with respect to subject merchandise entered prior to the effective date of revocation if it receives appropriately filed requests for review.

These final results of this five-year (sunset) review and notice are published in accordance with sections 751(c) and 777(i)(1) of the Act.

Dated: August 11, 2015.
Paul Piquado,
Assistant Secretary, for Enforcement and Compliance.

[FR Doc. 2015-20393 Filed 8-17-15; 8:45 am]

BILLING CODE 3510-DS-P